DEPARTMENT OF COMMERCE

National Oceanic and Atmospheric Administration

[RTID 0648-XR084]

Endangered and Threatened Species; Take of Anadromous Fish

AGENCY: National Marine Fisheries Service (NMFS), National Oceanic and Atmospheric Administration (NOAA), Commerce.

ACTION: NMFS is notifying the public of the issuance of four permits for summer steelhead, summer/fall Chinook salmon, and fall Chinook salmon hatchery programs in the Upper Columbia River Basin.

SUMMARY: Notice is hereby given that NMFS has issued permits, pursuant to section 10 of the Endangered Species Act (ESA), for the funding and operation of programs rearing and releasing summer steelhead, summer/fall Chinook salmon, and fall Chinook salmon programs. The permits address programs operated by the Washington Department of Fish and Wildlife (WDFW) and the Douglas County Public Utility District (PUD). The programs are funded by the Douglas County PUD, Chelan County PUD, and Grant County PUD.

FOR FURTHER INFORMATION CONTACT: Charlene Hurst at (503) 230-5409 or by email at charlene.n.hurst@noaa.gov.

SUPPLEMENTARY INFORMATION:

ESA-Listed Species Covered in This Notice

• Upper Columbia River Spring Chinook (Oncorhynchus tshawytscha): Endangered, naturally and artificially propagated.

• Upper Columbia River Steelhead (O. mykiss): Threatened, naturally and artificially propagated.

Discussion of the Biological Analysis Underlying Permit Issuance

NMFS has issued permits for seven hatchery programs: Chelan Falls Summer/Fall Chinook Salmon, Wenatchee Summer/Fall Chinook Salmon, Methow Summer/Fall Chinook Salmon, Wells Hatchery Summer/Fall Chinook Salmon, Priest Rapids Fall Chinook Salmon, Ringold Springs Fall Chinook Salmon, and Wells Complex Summer Steelhead. These hatchery programs are intended to contribute to the survival and recovery of Upper Columbia River steelhead and enhance fishing opportunity on hatchery-origin summer/fall and fall Chinook salmon and steelhead returns. The summer/fall and fall Chinook programs propagate an unlisted species, and thus only have incidental effects on listed species—the permits for these programs are issued under ESA section 10(a)(1)(B). The steelhead program uses natural-origin fish in the broodstock, and the permit for this program is issued under ESA section 10(a)(1)(A). Description of the programs was provided in Hatchery and Genetics Management Plans (HGMPs) submitted by the applicants.

NMFS has analyzed the effects of the hatchery programs on salmon and steelhead listed under the ESA, and has concluded that the hatchery programs would not appreciably reduce the likelihood of survival and recovery of ESA-listed species. Authorization of the activities depends upon implementation of all of the monitoring, evaluation, reporting tasks or assignments, and enforcement activities included in the permits.

Summary of Comments Received on the HGMPs

NMFS made the permit applications available for public comment on April 2, 2019 (84 FR 12594) for 30 days, as required by the ESA. No comments were received specific to the applications. However, we received a few general comments on the associated Environmental Assessment.

Authority: 16 U.S.C. 1531 et seq.; 16 U.S.C. 742a et seq.

Dated: December 30, 2019.
Angela Somma,
Chief, Endangered Species Division, Office of Protected Resources, National Marine Fisheries Service.

[FR Doc. 2019-28471 Filed 1-3-20; 8:45 am]

BILLING CODE 3510-22-P